DEPARTMENT OF HOUSING AND URBAN DEVELOPMENT

[Docket No. FR-4563-N-19]

Notice of Proposed Information Collection for Public Comment; Admission to, and Occupancy of, Public Housing; Part 960

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: February 20, 2001.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This notice also lists the following information:

Title of Proposal: Admission To, and Occupancy of, Public Housing: Admission and Tenant Selection Policies, Verification, Notification, Preference, Waiting List, Exemption of Police Officers.

OMB Control Number: 2577-0220.

Description of the need for the information and proposed use: Statute requires HUD to ensure the low-income character of public housing projects and to assure sound management practices will be followed in the operation of the project. Public Housing Agencies (PHAs) entered into an Annual Contribution Contract (ACC) with HUD to assist low-income tenants. HUD regulations, Part 960, provide policies and procedures for PHAs to administer the low-income public housing program for admission and occupancy. PHAs must develop and keep on file admission and occupancy policies including the plan for eligibility of police officers which is approved by HUD. PHA compliance will support the statute; HUD can ensure that the low-income character of the project and that sound management practices will be followed.

Agency form number: None.

Members of affected public: State, Local government; Resident Organizations.

Estimation of the total number of hours needed to prepare the information collection including number of respondents, frequency of response, and hours of response: 3,300 respondents, 1 response per respondent, 3,300 total responses, 344,800 (3.300x10.4 hours) total burden hours.

Status of the proposed information collection: Reinstatement, without change.

Authority: Section 3506 of the Paperwork Reduction Act of 1995, 44 U.S.C. Chapter 35, as amended.

Dated: December 12, 2000.
Milan Ozdinec,
Acting General Deputy Assistant Secretary for Public and Indian Housing.

[FR Doc. 00-32219 Filed 12-18-00; 8:45 am]

BILLING CODE 4210-33-M